DEPARTMENT OF LABOR

Employment and Training Administration

Proposed Information Collection Request Submitted for Public Comment; O*NET® Data Collection Program

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension collection of the O*NET® (Occupational Information Network) Data Collection Program. A copy of the proposed information collection request (ICR) can be obtained by contacting the office listed below in the addressee section of this notice or can be downloaded from the Internet at: http://www.onetcenter.org/ombclearance.html.

DATES: Written comments must be submitted to the office listed in the addressee section below on or before June 18, 2002.

ADDRESSES: Send comments regarding the O*NET Data Collection Program to James Woods, Chief, Division of Evaluation and Skill Assessment, Office of Policy and Research, Employment and Training Administration, U.S. Department of Labor, 200 Constitution Avenue, NW, Room N5637, Washington, DC 20210. The telephone number is 202-693-3660 (this is not a toll-free number). Comments may also be submitted via e-mail to: O*NET@doleta.gov.

SUPPLEMENTARY INFORMATION:

I. Background

The O*NET Data Collection Program is a continuing activity to develop and maintain up-to-date information on detailed characteristics of occupations. The resulting database is and will continue to be the most comprehensive standard source of occupational characteristics information in the nation. O*NET information is at the center of an extensive network of occupational information used by a wide range of audiences, from individuals making career decisions, to public agencies and schools providing career exploration services and planning workforce investment programs, to businesses making staffing and training decisions. The O*NET system also provides a common language and framework to meet administrative needs of various federal programs, including workforce investment and training programs of the Departments of Labor, Education, and Health and Human Services.

Section 309 of the Workforce Investment Act requires the Secretary of Labor to oversee the “development, maintenance, and continuous improvement of a nationwide employment statistics system” which shall include, among other components, “skill trends by occupation and industry.” The States are to develop similar statewide employment statistics systems.

The Secretary of Labor's Workforce Information System Plan for FY 2001-2005, released in October 2001, includes as one of its priorities, the collection of occupational skills data, stating, “During FY 2001, ETA initiated the data collection program for Occupational Information Network (O*NET) to update the database and refresh it on a regular basis. ETA also will continue research and development on O*NET measurement concepts and data collection methods.” This citation in the plan reflects that the O*NET system is the primary vehicle for collecting skills information across all occupations and the updating of the entire O*NET database is a critical component of the nationwide labor market information system to support employer, workforce, and education information needs.

O*NET succeeds the Dictionary of Occupational Titles (DOT) and is a powerful tool for various critical federal and state workforce development functions. O*NET integrates a powerful relational database and a common language for occupational and skill descriptions into a value-added tool for business, job seekers, and the workforce development professionals who help bring them together. By providing information organized according to the O*NET Content Model, the O*NET database is an important tool for keeping up with today's rapidly changing world of work. The O*NET database provides:

• Detailed information for more than 900 occupations.

• Descriptive information on standardized descriptors of skills, abilities, interests, knowledge, work values, education, training, work context, and work activities.

• Occupational coding based on the 2000 Standard Occupational Classification (SOC).

The O*NET electronic database serves as the underpinning for hundreds of publicly and privately developed products and resources in the marketplace. These products and resources are being used to serve millions of customers.

II. Review Focus

The Department of Labor is particularly interested in comments which:

• Evaluate whether the proposed information collection is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The O*NET Data Collection Program established the foundation for continuous data collection to update and maintain the O*NET database using collection methods designed to obtain high quality and current data. The first complete cycle of data collection will be completed in the fall of 2002. The DOL is seeking Office of Management and Budget approval for a three-year continuation to collect and fully populate the O*NET database with data from workers and some subject matter experts sampled in this survey.

Customers using O*NET are expanding quickly as more private and public developers integrate O*NET information into their products. The consequence of not continuing the O*NET Data Collection Program is that millions of users who need O*NET information to make important life, business, and policy decisions will have to make these decisions using information that is not current, is incomplete, and of questionable validity and reliability. Users will not have the benefit of practical results from the publicly funded research that has led to the O*NET system. Updating the O*NET database is crucial to providing business, job seekers, students, educators, and counselors with the most up-to-date information about occupations and occupational requirements.

The O*NET Data Collection Program is collecting information on 200 occupations in the first year, increasing the number of occupations in subsequent years to allow collection on all 974 O*NET occupations over the next three years. The O*NET occupations either match to, or represent more detailed breakouts of, occupations from the 2000 Standard Occupational Classification.

O*NET uses five survey questionnaires: (1) Skills, (2) Generalized Work Activities, which are general types of job behaviors occurring on multiple jobs, (3) Abilities, (4) Work Context, the physical and social factors that influence the nature of work, and (5) Knowledge, which includes Education and Training and Work Styles. (Copies of these questionnaires are also available from the following Internet site: http://www.onetcenter.org/ombclearance.html.)

All but the Abilities questionnaire will be used to survey incumbent workers identified using the two-stage sample design. Analysts will rate Abilities. While the sample of incumbent workers is designed to provide responses from four questionnaires, to reduce response burden each incumbent will be randomly assigned only one of the four questionnaires. Incumbents also will be asked to provide basic demographic information and to complete a brief task inventory for their specific occupation. Incumbents will be offered the option of going to an Internet website to complete an on-line questionnaire.

The name of incumbent respondents will not be requested on the survey form and all individual responses will be maintained in strict confidentiality. The data from job incumbents and others will be used to develop mean ratings on the various items.

The resulting data will be subjected to extensive analysis and will be made available to the public through scheduled updates to the O*NET database.

The increase in the estimated total burden hours is due to an increase in the estimated establishment sample size needed to identify firms that employ workers in the particular occupations being surveyed. Those firms found to be ineligible or out-of-scope are then taken out of the data collection process. In addition, the estimated average time per employer response (employer burden hours) has decreased, based on experience and survey design improvements since the first information collection request.

Type of Review: Extension.

Agency: Employment and Training Administration.

Title: O*NET Data Collection Program.

OMB Number: 1205-0421.

Affected Public: Business/Employers (includes private and not-for-profit businesses and government); individuals (incumbent workers, subject matter experts).

Total Respondents: 79,598.

Frequency of Response: Annual.

Total Responses: 79,598.

Average Time Per Response: Employer response time is 70 minutes. Incumbent worker response time is 30 minutes. Subject matter expert response time is 2 hours, 30 minutes.

Estimated Total Annual Burden Hours: 32,531 hours.

Total Burden Cost (capital/startup): $0.

Total Burden Cost (operating/maintenance): $0.

Comments submitted in response to this comment request will be summarized and/or included in the request for Office of Management and Budget approval of the information collection request; they will also become a matter of public record.

Signed at Washington, DC, this 15th day of April, 2002.
Gerard F. Fiala,
Administrator, Office of Policy and Research, Employment and Training Administration.

[FR Doc. 02-9649 Filed 4-18-02; 8:45 am]

BILLING CODE 4510-30-P